DEPARTMENT OF AGRICULTURE

Submission for OMB Review; Comment Request

June 14, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Food Aid Request Entry System (FARES).

OMB Control Number: 0560-0225.

Summary of Collection: The Agricultural Trade Development and Assistance Act of 1954, as amended (Title II, Pub. L. 480), Section 416(b) of the Agricultural Act of 1949, as amended, (Section 416(b)), Food for Progress Act of 1985, as amended (Food for Progress), and the International School Lunch Program, known as the Global Food for Education and Child Nutrition Act, authorizes Commodity Credit Corporation Export Operations Division and Bulk Commodities Division to procure, sell, transport agricultural commodities and obtain discharge/delivery survey information. Commodities are delivered to foreign countries through voluntary agencies, United Nations World Food Program, the Foreign Agricultural Service, and the Agency for International Development. The program information will be electronically captured, requirements validated, and improved commodity request visibility will be provided via FARES web-based application technology tool. The FARES is for the customers to submit online to process the commodity request electronically and to access the information.

Need and Use of the Information: The Farm Service Agency will collect the following information from FARES: The name of the Private Voluntary Organization, the program, the types of commodities being requested for export, quantities of commodities, destinations of commodities, and special requirements for packaging. Without this information collection process, Kansas City Commodity Office would not be able to meet program requirements.

Description of Respondents: Not-for-profit institutions; Business or other-for-profit; Federal Government.

Number of Respondents: 305.

Frequency of Responses: Reporting: Other (bi-weekly/bi-monthly).

Total Burden Hours: 1,708.

Ruth Brown,
Departmental Information Collection Clearance Officer.

[FR Doc. E7-11821 Filed 6-19-07; 8:45 am]

BILLING CODE 3410-05-P